DEPARTMENT OF ENERGY

Federal Energy Regulatory Commission

[Project No. 13471-000]

FFP Project 61, LLC; Notice of Preliminary Permit Application Accepted for Filing and Soliciting Comments, Motions To Intervene, and Competing Applications

July 7, 2009.

On May 22, 2009, FFP Project 61, LLC filed an application for a preliminary permit, pursuant to section 4(f) of the Federal Power Act, proposing to study the feasibility of the Point Menoir Hydrokinetic Project, to be located on the Mississippi River in West Baton Rouge Parish, Louisiana and East Baton Rouge Parish, Louisiana.

The sole purpose of a preliminary permit, if issued, is to grant the permit holder priority to file a license application during the permit term. A preliminary permit does not authorize the permit holder to perform any land disturbing activities or otherwise enter upon lands or waters owned by others without the owners' express permission.

The proposed Point Menoir Hydrokinetic Project consists of: (1) 1,647 proposed 40 kilowatt Free Flow generating units having a total installed capacity of 65.88 megawatts; (2) a 1.6-mile-long, 69 kilovolt transmission line; and (3) appurtenant facilities. The proposed Point Menoir Hydrokinetic Project would have an average annual generation of 289 gigawatt-hours.

Applicant Contact: Ramya Swaminathan, Vice President of Development, Free Flow Power Corporation, 33 Commercial Street, Gloucester, MA 01930; phone: (978) 226-1531.

FERC Contact: Kim Carter, 202-502-6486.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13471) in the docket number field to access the document. For assistance, call toll-free 1-866-208-3372.

Kimberly D. Bose,
Secretary.

[FR Doc. E9-16562 Filed 7-13-09; 8:45 am]

BILLING CODE 6717-01-P